DEPARTMENT OF HOMELAND SECURITY

Federal Emergency Management Agency

44 CFR Part 65

[Docket ID FEMA-2011-0002]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama: Tuscaloosa (FEMA Docket No.: B-1186) | City of Tuscaloosa (10-04-7227P) | January 10, 2011; January 17, 2011; The Tuscaloosa News | The Honorable Walter Maddox, Mayor, City of Tuscaloosa, P.O. Box 2089, Tuscaloosa, AL 35401 | December 31, 2010 | 010203
California: Riverside, (FEMA Docket No.: B-1186) | City of Hemet (10-09-2521P) | December 24, 2010; December 31, 2010; The Press-Enterprise | The Honorable Jerry Franchville, Mayor, City of Hemet, 445 East Florida Avenue, Hemet, CA 92543 | December 17, 2010 | 060253
Colorado:
El Paso, (FEMA Docket No.: B-1191) | City of Colorado Springs (10-08-0471P) | January 5, 2011; January 12, 2011; The El Paso County Advertiser and News | The Honorable Lionel Rivera, Mayor, City of Colorado Springs, P.O. Box 1575, Colorado Springs, CO 80901 | December 29, 2010 | 080060
El Paso, (FEMA Docket No.: B-1177) | Unincorporated areas of El Paso County (10-08-0838P) | December 22, 2010; December 29, 2010; The El Paso County Advertiser and News | The Honorable Amy Lathen, Chair, El Paso County Board of Commissioners, 27 East Vermijo Avenue, Colorado Springs, CO 80903 | April 28, 2011 | 080059
Florida:
Lee, (FEMA Docket No.: B-1177) | City of Sanibel (10-04-5333P) | December 29, 2010; January 5, 2011; The News-Press | The Honorable Kevin Ruane, Mayor, City of Sanibel, 800 Dunlop Road, Sanibel, FL 33957 | December 21, 2010 | 120402
Lee, (FEMA Docket No.: B-1191) | Unincorporated areas of Lee County (10-04-7794P) | November 3, 2010; November 10, 2010; The News-Press | The Honorable Frank Mann, Chair, Lee County Board of Commissioners, 2120 Main Street, Fort Myers, FL 33901 | October 27, 2010 | 125124
Volusia, (FEMA Docket No.: B-1177) | City of Daytona Beach (10-04-6547P) | December 27, 2010; January 3, 2011; The Daytona Beach News-Journal | The Honorable Glenn Ritchey, Mayor, City of Daytona Beach, 301 South Ridgewood Avenue, Daytona Beach, FL 32114 | December 20, 2010 | 125099
Georgia: Coweta, (FEMA Docket No.: B-1177) | City of Senoia (11-04-0184P) | December 16, 2010; December 23, 2010; The Times-Herald | The Honorable Robert K. Belisle, Mayor, City of Senoia, P.O. Box 310, Senoia, GA 30276 | April 22, 2011 | 130301
Nevada:
Washoe, (FEMA Docket No.: B-1186) | City of Reno (10-09-3236P) | January 4, 2011; January 11, 2011; The Reno Gazette-Journal | The Honorable Bob Cashell, Mayor, City of Reno, P.O. Box 1900, Reno, NV 89505 | December 28, 2010 | 320020
Washoe, (FEMA Docket No.: B-1186) | City of Sparks (10-09-3236P) | January 4, 2011; January 11, 2011; The Reno Gazette-Journal | The Honorable Geno Martini, Mayor, City of Sparks, 431 Prater Way, Sparks, NV 89431 | December 28, 2010 | 320021
North Carolina:
Catawba, (FEMA Docket No.: B-1150) | City of Conover (10-04-2641P) | July 7, 2010; July 14, 2010; The Observer News Enterprise | The Honorable Lee E. Moritz, Jr., Mayor, City of Conover, P.O. Box 549, Conover, NC 28613 | July 30, 2010 | 370053
Catawba, (FEMA Docket No.: B-1150) | City of Newton (10-04-2641P) | July 7, 2010; July 14, 2010; The Observer News Enterprise | The Honorable Robert A. Mullinax, Mayor, City of Newton, 401 North Main Avenue, Newton, NC 28658 | July 30, 2010 | 370057
Chatham, (FEMA Docket No.: B-1160) | Unincorporated areas of Chatham County (10-04-0659P) | September 9, 2010; September 16, 2010; The Chatham News | Mr. Charlie Horne, Chatham County Manager, P.O. Box 1809, 12 East Street, Pittsboro, NC 27312 | January 14, 2011 | 370299
Dare, (FEMA Docket No.: B-1191) | Town of Kill Devil Hills (10-04-3184P) | November 9, 2010; November 16, 2010; The Coastland Times | The Honorable Raymond Sturza, Mayor, Town of Kill Devil Hills, P.O. Box 1719, Kill Devil Hills, NC 27948 | October 29, 2010 | 375353
Ohio:
Lake, (FEMA Docket No.: B-1186) | City of Painesville (10-05-6522P) | January 3, 2011; January 10, 2011; The News-Herald | The Honorable Joseph Hada, Jr., President, Painesville City Council, P.O. Box 601, 7 Richmond Street, Painesville, OH 44077 | January 24, 2011 | 390319
Lake, (FEMA Docket No.: B-1186) | Unincorporated areas of Lake County (10-05-6522P) | January 3, 2011; January 10, 2011; The News-Herald | The Honorable Raymond E. Sines, President, Lake County Board of Commissioners, P.O. Box 490, 105 Main Street, Painesville, OH 44077 | January 24, 2011 | 390771
Pennsylvania:
Adams, (FEMA Docket No.: B-1177) | Township of Latimore (10-03-2196P) | December 23, 2010; December 30, 2010; The Gettysburg Times | Mr. Dan Worley, Chairman, Township of Latimore Board of Supervisors, 559 Old U.S. Route 15, York Springs, PA 17372 | December 15, 2010 | 421162
Adams, (FEMA Docket No.: B-1177) | Township of Reading (10-03-2196P) | December 23, 2010; December 30, 2010; The Gettysburg Times | Mr. Bob Zangueneh, Chairman, Township of Reading Board of Supervisors, 50 Church Road, East Berlin, PA 17316 | December 15, 2010 | 420004
Texas: Collin, (FEMA Docket No.: B-1177) | City of Plano (10-06-1746P) | December 9, 2010; December 16, 2010; The Plano Star-Courier | The Honorable Phil Dyer, Mayor, City of Plano, 1520 Avenue K, Plano, TX 75074 | April 15, 2011 | 480140
Utah: Salt Lake, (FEMA Docket No.: B-1177) | City of West Jordan (10-08-0678P) | December 16, 2010; December 23, 2010; The Salt Lake Tribune | The Honorable Melissa K. Johnson, Mayor, City of West Jordan, 8000 South Redwood Road, West Jordan, UT 84088 | April 22, 2011 | 490108
Wyoming:
Laramie, (FEMA Docket No.: B-1177) | City of Cheyenne (10-08-0553P) | December 8, 2010; December 15, 2010; The Wyoming Tribune-Eagle | The Honorable Richard Kaysen, Mayor, City of Cheyenne, 2101 O'Neil Avenue, Room 310, Cheyenne, WY 82001 | April 14, 2011 | 560030
Laramie, (FEMA Docket No.: B-1177) | Unincorporated areas of Laramie County (10-08-0553P) | December 8, 2010; December 15, 2010; The Wyoming Tribune-Eagle | The Honorable Jeff Ketchman, Chairman, Laramie County Board of Commissioners, 310 West 19th Street, Suite 300, Cheyenne, WY 82001 | April 14, 2011 | 560029
Uinta, (FEMA Docket No.: B-1191) | Unincorporated areas of Uinta County (10-08-0740P) | December 17, 2010; December 24, 2010; The Uinta County Herald | The Honorable Bob Stoddard, Chairman, Uinta County Board of Commissioners, 225 9th Street, Evanston, WY 82930 | April 25, 2011 | 560053

(Catalog of Federal Domestic Assistance No. 97.022, “Flood Insurance.”)

Dated: June 23, 2011.
Sandra K. Knight,
Deputy Federal Insurance and Mitigation Administrator, Mitigation, Department of Homeland Security, Federal Emergency Management Agency.

[FR Doc. 2011-16779 Filed 7-1-11; 8:45 am]

BILLING CODE 9110-12-P